DEPARTMENT OF THE INTERIOR

Bureau of Land Management

DEPARTMENT OF AGRICULTURE

Forest Service

[LLORV00000.L51010000.ER0000.LVRWH09H0480; OR 065375; IDI 036029; HAG 10-0278]

Revised Notice of Intent To Prepare an Environmental Impact Statement for the Proposed Boardman to Hemingway 500 Kilovolt Transmission Line Project in Idaho and Oregon and Possible Land Use Plan Amendments

AGENCY: Bureau of Land Management, Interior; and U.S. Forest Service, Agriculture.

ACTION: Notice.

SUMMARY: This notice is a revision of a September 12, 2008, Notice of Intent [73 FR 52944]. In compliance with the National Environmental Policy Act of 1969, as amended (NEPA), the Bureau of Land Management (BLM) Vale District Office, Vale, Oregon, and the U.S. Forest Service (FS), Wallowa-Whitman National Forest, Baker City, Oregon, intend to prepare an Environmental Impact Statement (EIS) for the Boardman to Hemingway (B2H) Project, and by this notice are announcing the re-initiation of the NEPA scoping process to solicit public comments. This notice is in response to substantive changes in the proposed B2H Project route as submitted by Idaho Power Company (IPC) in its amended right-of-way (ROW) application to the BLM and special use application to the FS. The proposed B2H route is about 300 miles long and would cross Federal, State, and private lands in 6 counties in Oregon and Idaho. Approximately 93 miles (31 percent) of the lands the transmission line would cross are administered by Federal agencies, including the BLM, the FS, the Bureau of Reclamation, and the Department of Defense.

DATES: This notice re-initiates the comment period for scoping on the B2H Project EIS. The comment period will be open until September 27, 2010. Scoping meetings are being considered in the following locations: Baker City, John Day, Burns, Ontario, Boardman, La Grande, and Pendleton, Oregon; and Marsing, Idaho. The dates and locations of the scoping meetings will be announced at least 15 days in advance through local media, newspapers, and the B2H Project Web site at: http://www.boardmantohemingway.com. Comments must be received prior to the close of the comment period or 15 days after the last scoping meeting, whichever is later, to be considered in the B2H Project EIS analysis. Relevant comments submitted during the previous B2H Project comment period will also be considered. Additional opportunities for public participation will be provided upon publication of the Draft EIS.

ADDRESSES: You may submit comments by any of the following methods:

• E-mail: comment@boardmantohemingway.com;

• Web site: http://www.boardmantohemingway.com/comment;

• Mail: BLM, B2H Project, P.O. Box 655, Vale, Oregon 97918; or

• In person at a scoping meeting.

The amended B2H ROW and special-use application is available for inspection at the Web site listed above or may be examined at:

• BLM, Vale District Office, 100 Oregon Street, Vale, Oregon 97918;

• FS, Whitman Ranger District, 3285 11th Street, Baker City, Oregon 97814; and

• FS, La Grande Ranger District, 3502 Highway 30, La Grande, Oregon 97850.

FOR FURTHER INFORMATION CONTACT: For additional information or to have your name added to or removed from the B2H Project mailing list, visit the Web site or e-mail a request to the address identified in the ADDRESSES section above, or mail your request to the BLM, B2H Project, P.O. Box 655, Vale, Oregon 97918.

SUPPLEMENTARY INFORMATION: The B2H Project is a new single-circuit 500-kilovolt (kV) electric transmission line proposed for construction by IPC between the existing Hemingway substation, located near Melba in Owyhee County, Idaho, and the planned Grassland substation adjacent to the Boardman Generating Plant, located near Boardman in Morrow County, Oregon. The B2H Project will deliver up to 1,500 megawatts of additional energy capacity to meet load requirements in Oregon and Idaho, provide service to wholesale customers, maintain reliable electric service, and relieve existing congestion and capacity constraints.

On December 19, 2007, IPC submitted an application for a ROW grant to construct, operate, and maintain a single-circuit 500-kV transmission line across BLM-administered lands. On March 25, 2008, IPC also submitted an application for a special use authorization to the FS to cross FS-administered lands. In April 2010, IPC resubmitted these applications to the BLM and FS because of proposed route changes.

The proposed B2H route is approximately 300 miles long and will cross Federal, State, and private lands in 6 counties in Oregon and Idaho. The route generally parallels existing interstate and other existing overhead and underground utilities and roadways, and makes use of existing utility corridors on Federal lands. Approximately 31 percent (93 miles) of the route is located on public lands. The project is designed to utilize steel lattice-type structures, about 150 feet high, with average spans between towers of 1,200 feet. Access roads would be 14 to 20 feet wide. Additional temporary work space would also be required during construction. The requested ROW width is 250 feet. A map is available for review at the Web site identified above.

The purpose of the NEPA scoping process is to identify issues and alternatives that will influence the scope of the environmental analysis and guide the process for developing the project EIS. At this time, the proposed B2H route has been identified for analysis in the EIS. The BLM and FS have identified the following preliminary issues: Areas of Critical Environmental Concern, National Historic Oregon Trail Interpretive Center, Oregon National Historic Trail, visual resources, Threatened and Endangered Species, wildlife, impacts to critical wildlife habitat, use of existing utility corridors, exclusive farm use, and lands with wilderness characteristics. The Hemingway substation will not be analyzed in this EIS, since it is currently under construction and will operate regardless of the outcome of the B2H project. The proposed Grassland substation is part of the proposed B2H project and will be analyzed in this EIS.

Authorization of the B2H project by the BLM and FS may require an amendment to the BLM's Baker Resource Management Plan, the Southeastern Oregon Resource Management Plan, the Owyhee Resource Management Plan, and the Cascade Resource Management Plan, and the FS's Wallowa-Whitman National Forest Land and Resource Management Plan. Plan amendments currently under consideration include an amendment to the Wallowa-Whitman National Forest Land and Resource Management Plan (USDA-Forest Service 1990, Wallowa-Whitman National Forest Land and Resource Management Plan, Baker City, Oregon) that currently prevents the harvest and removal of all live trees greater than or equal to 21-inch diameter within the proposed ROW. Amendment of this standard would allow for the removal of these trees to provide for the safe, long-term operation of the B2H transmission line.

By this notice, the BLM and FS are complying with requirements in 43 CFR 1610.2(c) and 36 CFR 219.35(b)(2000) to notify the public of potential amendments to land use plans, subject to the analysis in the B2H EIS. The BLM and FS will integrate the land use planning process with the B2H Project EIS for any necessary land use plan amendments.

The BLM, as the lead Federal agency for the B2H Project EIS, will utilize and coordinate the NEPA comment process to satisfy the public involvement process of Section 106 of the National Historic Preservation Act (16 U.S.C. 470f) as provided for in 36 CFR 800.2(d)(3). Native American Tribal consultations will be conducted in accordance with agency policies, and Tribal concerns, including impacts on Indian trust assets, will be given due consideration. The following is a list of current cooperating agencies that will assist with preparation of the EIS: United States Department of Agriculture, FS, Wallowa-Whitman National Forest; the State of Idaho; the State of Oregon Department of Energy; State of Oregon Department of Fish and Wildlife; Malheur, Baker, Umatilla, Morrow, and Union counties, Oregon; Payette, Washington, and Canyon counties, Idaho; the City of Parma, Idaho; the Ten Davis Recreation District, Idaho; the Black Canyon Irrigation District, Idaho; the Owyhee Irrigation District, Oregon; and the Joint Committee of the Owyhee Project, Oregon. Other Federal, State, and local agencies, along with stakeholders that may be interested in or affected by the Federal agencies' decision on this project, are invited to participate in the scoping process and, if eligible, may request or be requested by the BLM to participate as a cooperating agency.

Pursuant to Section 501 of the Federal Land Policy and Management Act of 1976 (Pub. L. 94-579), the Secretary of Agriculture is authorized to grant ROWs through National Forest System lands (except those designated as wilderness) and the Secretary of the Interior is authorized to grant ROWs through the National System of Public Lands for generation, transmission, and distribution of electric energy. In addition, Section 368 of the Energy Policy Act of 2005 (Pub. L. 109-58) directs the Secretaries of Agriculture and Interior to expedite applications to construct or modify electricity transmission and distribution facilities within utility corridors.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7, 43 CFR 1610.2, 36 CFR 219.35(b).

Donald N. Gonzalez,
Vale District Manager, BLM.
Steven A. Ellis,
Forest Supervisor, Wallowa-Whitman National Forest, FS.

[FR Doc. 2010-18220 Filed 7-26-10; 8:45 am]

BILLING CODE 4310-33-P